DEPARTMENT OF ENERGY

Federal Energy Regulatory Commission

Combined Notice of Filings #3

September 29, 2010.

Take notice that the Commission received the following electric rate filings:

Docket Numbers: ER10-3022-000.

Applicants: Cianbro Energy LLC.

Description: Cianbro Energy LLC submits an application for authorization to make wholesale sales of energy and capacity at negotiated market-based rates.

Filed Date: 09/27/2010.

Accession Number: 20100927-0202.

Comment Date: 5 p.m. Eastern Time on Monday, October 18, 2010.

Docket Numbers: ER10-3023-000.

Applicants: RJF-Morin Energy, LLC.

Description: RJF-Morin Energy, LLC submits an application for authorization to make wholesale sales of energy and capacity at negotiated market-based rates.

Filed Date: 09/27/2010.

Accession Number: 20100927-0203.

Comment Date: 5 p.m. Eastern Time on Monday, October 18, 2010.

Docket Numbers: ER10-2943-000.

Applicants: Smart One Energy, LLC.

Description: Smart One Energy, LLC submits Petition for Acceptance of Initial Tariff, Waivers, and Blanket Authorizations.

Filed Date: 09/24/2010.

Accession Number: 20100924-0201.

Comment Date: 5 p.m. Eastern Time on Friday, October 15, 2010.

Docket Numbers: ER10-2946-000.

Applicants: Corinth Energy, LLC.

Description: Corinth Energy, LLC submits an application for authorization to make wholesale sales of energy and capacity at negotiated market-based rates.

Filed Date: 09/24/2010.

Accession Number: 20100924-0202.

Comment Date: 5 p.m. Eastern Time on Friday, October 15, 2010.

Docket Numbers: ER10-2951-000.

Applicants: Shipyard Energy, LLC.

Description: Shipyard Energy, LLC submits application for authorization to make wholesale sales of energy and capacity at negotiated market-based rates.

Filed Date: 09/24/2010.

Accession Number: 20100924-0203.

Comment Date: 5 p.m. Eastern Time on Friday, October 15, 2010.

Docket Numbers: ER10-2954-000.

Applicants: Garland Power Company.

Description: Garland Power Company submits an application for authorization to make wholesale sales of energy and capacity at negotiated market-based rates.

Filed Date: 09/24/2010.

Accession Number: 20100924-0204.

Comment Date: 5 p.m. Eastern Time on Friday, October 15, 2010.

Docket Numbers: ER10-3185-000.

Applicants: Northern Maine Independent System Administrator, Inc.

Description: Northern Maine Independent System Administrator, Inc. submits tariff filing per 35.12: Baseline Market Rules Filing to be effective 9/30/2010.

Filed Date: 09/29/2010.

Accession Number: 20100929-5265.

Comment Date: 5 p.m. Eastern Time on Wednesday, October 20, 2010.

Docket Numbers: ER10-3186-000.

Applicants: The Dayton Power and Light Company.

Description: The Dayton Power and Light Company submits an Amended and Restated Power Services Agreement and FERC Rate Schedule No. 46, Village of New Bremen, to be effective 9/29/2010.

Filed Date: 09/29/2010.

Accession Number: 20100929-5271.

Comment Date: 5 p.m. Eastern Time on Wednesday, October 20, 2010.

Docket Numbers: ER10-3187-000.

Applicants: Commercial Energy of Montana.

Description: Commercial Energy of Montana submits tariff filing per 35.12: Commercial Energy of Montana MBR eTariff Baseline Filing to be effective 9/29/2010.

Filed Date: 09/29/2010.

Accession Number: 20100929-5273.

Comment Date: 5 p.m. Eastern Time on Wednesday, October 20, 2010.

Docket Numbers: ER10-3188-000.

Applicants: Public Service Company of New Mexico.

Description: Public Service Company of New Mexico submits the Baseline of its Open Access Transmission Tariff, FERC Electric Tariff Volume No. 6, to be effective 9/30/2010.

Filed Date: 09/29/2010.

Accession Number: 20100929-5278.

Comment Date: 5 p.m. Eastern Time on Wednesday, October 20, 2010.

Docket Numbers: ER10-3189-000.

Applicants: CCES LLC.

Description: CCES LLC submits tariff filing per 35.12: CCES LLC FERC Electric MBR Tariff Baseline Filing to be effective 9/29/2010.

Filed Date: 09/29/2010.

Accession Number: 20100929-5285.

Comment Date: 5 p.m. Eastern Time on Wednesday, October 20, 2010.

Docket Numbers: ER10-3193-000.

Applicants: Brooklyn Navy Yard Cogeneration Partners.

Description: Brooklyn Navy Yard Cogeneration Partners, L.P. submits tariff filing per 35.12: Brooklyn Navy Yard Cogeneration Partners, L.P. Baseline Market-Based Rate Tariff to be effective 9/29/2010.

Filed Date: 09/29/2010.

Accession Number: 20100929-5302.

Comment Date: 5 p.m. Eastern Time on Wednesday, October 20, 2010.

Docket Numbers: ER10-3194-000.

Applicants: MATEP LLC.

Description: MATEP LLC submits tariff filing per 35.12: MATEP LLC MBR Tariff to be effective 9/29/2010.

Filed Date: 09/29/2010.

Accession Number: 20100929-5308.

Comment Date: 5 p.m. Eastern Time on Wednesday, October 20, 2010.

Docket Numbers: ER10-3195-000.

Applicants: MATEP Limited Partnership.

Description: MATEP Limited Partnership submits tariff filing per 35.12: MATEP Limited Partnership MBR Tariff to be effective 9/29/2010.

Filed Date: 09/29/2010.

Accession Number: 20100929-5315.

Comment Date: 5 p.m. Eastern Time on Wednesday, October 20, 2010.

Docket Numbers: ER10-3196-000.

Applicants: PEI Power Corporation.

Description: PEI Power Corporation submits tariff filing per 35.12: Baseline Electric Market-Based Rates to be effective 9/30/2010.

Filed Date: 09/29/2010.

Accession Number: 20100929-5320.

Comment Date: 5 p.m. Eastern Time on Wednesday, October 20, 2010.

Docket Numbers: ER10-3197-000.

Applicants: Midwest Independent Transmission System.

Description: Midwest Independent Transmission System Operator, Inc. submits tariff filing per 35.13(a)(2)(iii): G546 Termination to be effective 11/29/2010.

Filed Date: 09/29/2010.

Accession Number: 20100929-5335.

Comment Date: 5 p.m. Eastern Time on Wednesday, October 20, 2010.

Docket Numbers: ER10-3198-000.

Applicants: Louisville Gas and Electric Company.

Description: Louisville Gas and Electric Company submits tariff filing per 35: 09_29_10 LGE GSS Tariff Baseline to be effective 9/30/2010.

Filed Date: 09/29/2010.

Accession Number: 20100929-5358.

Comment Date: 5 p.m. Eastern Time on Wednesday, October 20, 2010.

Docket Numbers: ER10-3199-000.

Applicants: Montana-Dakota Utilities Co., a Division.

Description: Montana-Dakota Utilities Co., a Division of MDU Resources Group Inc. submits tariff filing per 35.12: Montana-Dakota FERC Electric Tariff to be effective 9/29/2010.

Filed Date: 09/29/2010.

Accession Number: 20100929-5379.

Comment Date: 5 p.m. Eastern Time on Wednesday, October 20, 2010.

Docket Numbers: ER10-3200-000.

Applicants: The Dayton Power and Light Company.

Description: The Dayton Power and Light Company submits tariff filing per 35.13(a)(2)(iii): FERC Rate Schedule No. 51, City of Tipp City to be effective 9/29/2010.

Filed Date: 09/29/2010.

Accession Number: 20100929-5388.

Comment Date: 5 p.m. Eastern Time on Wednesday, October 20, 2010.

Docket Numbers: ER10-3201-000.

Applicants: Montana Generation, LLC.

Description: Montana Generation, LLC submits tariff filing per 35.12: Montana Generation, LLC FERC Electric Tariff Filing to be effective 9/29/2010.

Filed Date: 09/29/2010.

Accession Number: 20100929-5404.

Comment Date: 5 p.m. Eastern Time on Wednesday, October 20, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-25372 Filed 10-7-10; 8:45 am]

BILLING CODE 6717-01-P